DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received within 30 days of this notice.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION:

Information Collection Request Title: “Health Care and Other Facilities”

OMB No. 0915-0309—Extension

Abstract: The Health Resources and Services Administration's Health Care and Other Facilities (HCOF) program provides congressionally-directed funds to health-related facilities for construction related activities and/or capital equipment purchases. Awarded facilities are required to provide a periodic (quarterly for construction related projects, annually for equipment only projects) update of the status of the funded project until it is completed. The monitoring period averages about three years, although some projects take up to five years to complete. The information collected from these updates is vital to program management staff to determine whether projects are progressing according to the established timeframes, meeting deadlines established in the Notice of Award, and drawing down funds appropriately. The data collected from the updates are also shared with the Division of Grants Management Operations for their assistance in the overall evaluation of each project's progress.

An electronic form is currently being used for progress reporting for the HCOF program. This standardized form enables grantees to directly input the required information in a consistent and uniform manner. The electronic form minimizes burden to respondents by alerting the respondents when there are missing data elements prior to submission. We acknowledge a change in the burden estimate due to close out of old projects.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Construction Related | 200 | 4 | 800 | .5 | 400
Equipment Only | 317 | 1 | 317 | .5 | 158.5
Total | 517 |  | 1,117 |  | 558.5

Dated: June 19, 2013.
Bahar Niakan,
Director, Division of Policy and Information Coordination.

[FR Doc. 2013-15113 Filed 6-24-13; 8:45 am]

BILLING CODE 4165-15-P